DEPARTMENT OF HEALTH AND HUMAN SERVICES

Agency for Toxic Substances and Disease Registry

[Program Announcement 03041]

World Trade Center Registry; Notice of Intent To Fund Single Eligibility Award

A. Purpose

The Agency for Toxic Substances and Disease Registry (ATSDR) announces the intent to award fiscal year (FY) 2003 funds for a cooperative agreement program to develop a World Trade Center (WTC) Registry which will be a central, unified database to assess short and long term health effects among persons exposed to the WTC disaster.

B. Eligible Applicant

Assistance will be provided only to the New York City Department of Health and Mental Hygiene (NYCDOHMH). NYCDOHMH has designed and implemented the protocol for the initial data collection for this program. They are the point of entry into the public health system for the residents of New York City, and they have strong linkages to all levels of the community required to gain enrollment of identified registry populations.

C. Funding

Approximately $1,500,000 is available in FY 2003 to fund this award. It is expected that the award will begin on or about February 28, 2003 and will be made for a 12-month budget period within a project period of up to five years. Funding estimates may change.

D. Where To Obtain Additional Information

For general comments or questions about this announcement, contact: Technical Information Management, CDC Procurement and Grants Office, 2920 Brandywine Rd, Room 3000, Atlanta, GA 30341-4146, Telephone: (770) 488-2700.

For technical questions about this program, contact: Sharon Campolucci, Public Health Advisor, Division of Health Studies, Agency for Toxic Substances and Disease Registry, Executive Park, Building 4, Suite 1300, MS E-31, Atlanta, GA 30305, Telephone (404) 498-0105, e-mail address: ssc1@cdc.gov.

Dated: February 6, 2003.
Sandra R. Manning,
Director, Procurement and Grants Office, Centers for Disease Control and Prevention.

[FR Doc. 03-3476 Filed 2-11-03; 8:45 am]

BILLING CODE 4163-70-P